DEPARTMENT OF TRANSPORTATION

Federal Highway Administration

Notice of Final Federal Agency Action on Proposed Highway in California

AGENCY: Federal Highway Administration (FHWA), DOT.

ACTION: Notice of Limitation on Claims for Judicial Review of Actions by FHWA and other Federal agencies.

SUMMARY: The FHWA, on behalf of the California Department of Transportation (Caltrans) is issuing this notice to advise the public that Federal actions taken by the California Department of Transportation (Department) pursuant to its assigned responsibilities under 23 U.S.C. 327, as well as actions by other Federal agencies, are final within the meaning of 23 U.S.C. 139 (l)(1). The actions relate to a proposed Interstate 5 Bus/Carpool Lanes Project (Post Miles 9.7 to 22.5), south of Elk Grove Blvd. to United States (US) Highway 50 in Sacramento County, State of California. This action grants approval for the project.

DATES: By this notice, FHWA, on behalf of the Department, is advising the public of final actions subject to 23 U.S.C. 139 (l)(1). These actions have been taken by the Department pursuant to its assigned responsibilities under 23 U.S.C. 327, as well as by other Federal agencies. A claim seeking judicial review of the Federal agency actions on the highway project will be barred unless the claim is filed on or before February 22, 2014. If the Federal law that authorizes judicial review of a claim provides a time period of less than 150 days for filing such claim, then that shorter time period still applies.

FOR FURTHER INFORMATION CONTACT: Kendall Schinke, Senior Environmental Planner, California Department of Transportation, 2379 Gateway Oaks Dr., Suite 150, Sacramento, CA 95833, weekdays between 8 a.m. and 4:30 p.m., (530) 741-4394, kendall_schinke@dot.ca.gov.

SUPPLEMENTARY INFORMATION: Notice is hereby given that the Department and other Federal agencies have taken final agency actions by issuing licenses, permits, and approvals for the following highway project in the State of California. The Interstate 5 Bus/Carpool Lanes Project would improve operations and safety of Interstate 5 in Sacramento County, California. This would be accomplished by adding bus/carpool lanes in the median the entire length of the project. The actions by the Department and other Federal agencies, and the laws under which such actions were taken, are described in the Environmental Assessment (EA)/Finding of No significant Impact (FONSI) for the project, approved by the Department on June 26, 2013. The EA/FONSI and other project records are available by contacting the Department at the address provided above. The EA/FONSI can be viewed and downloaded from the project Web site at www.dot.ca.gov/dist3/Projects/00165/prjindex.htm or viewed at the Sacramento County Public Library—Sacramento Public Library Central Library 828 I Street, Sacramento, CA 95814. Comments or questions concerning this proposed action should be directed to Caltrans at the address provided above.

This notice applies to the Department and other Federal agency decisions as of the issuance date of this notice and all laws under which such actions were taken, including but not limited to the following Federal environmental statutes and Executive orders:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance and Real Property Acquisition Act of 1970, as amended.

7. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

8. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act, 42 U.S.C. 4001-4128.

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Matthew Schmitz,
Director State Programs, Federal Highway Administration, Sacramento, California.

[FR Doc. 2013-23350 Filed 9-24-13; 8:45 am]

BILLING CODE 4910-22-P